DEPARTMENT OF THE TREASURY

Office of Thrift Supervision

[AC-01: OTS Nos. H-4068 and 02612]

St. Edmond's Federal Savings Bank, Philadelphia, PA; Approval of Conversion Application

Notice is hereby given that on March 15, 2004, the Managing Director, Examinations, Supervision and Consumer Protection, Office of Thrift Supervision (“OTS”), or his designee, acting pursuant to delegated authority, approved the application of St. Edmond's Federal Savings Bank, Philadelphia, Pennsylvania, to convert to the stock form of organization. Copies of the application are available for inspection by appointment (phone number: 202-906-5922 or e-mail: Public.Info@OTS.Treas.gov) at the Public Reading Room, OTS, 1700 G Street, NW., Washington, DC 20552, and OTS Northeast Regional Office, 10 Exchange Place, 18th Floor, Jersey City, New Jersey 07302.

Dated: March 18, 2004.
By the Office of Thrift Supervision.
Nadine Y. Washington,
Corporate Secretary.

[FR Doc. 04-6472 Filed 3-22-04; 8:45 am]

BILLING CODE 6720-01-M